EXPORT-IMPORT BANK

[Public Notice: 2024-6128]

Agency Information Collection Activities: Submission to the Office of Management and Budget for Review and Approval; Comment Request; EIB18-01, Multi-Buyer Select Risk Policy (MBSR) Exclusions Worksheet

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995.

DATES: Comments should be received on or before February 10, 2025 to be assured of consideration.

ADDRESSES: Comments may be submitted electronically on www.regulations.gov (EIB 18-01), by email to Cristina Conti cristina.conti@exim.gov, or by mail to Cristina Conti, Export-Import Bank of the United States, 811 Vermont Ave. NW, Washington, DC 20571.

The form can be viewed at: https://img.exim.gov/s3fs-public/pub/pending/eib18-01_2025+MBSR_Exclusions_Worksheet_OMB+No._3048-0053_508.pdf.

FOR FURTHER INFORMATION CONTACT: To request additional information, please contact Cristina Conti cristina.conti@exim.gov, 202-565-3804.

SUPPLEMENTARY INFORMATION:

Titles and Form Number: EIB18-01, Multi-Buyer Select Risk Policy (MBSR) Exclusions Worksheet.

OMB Number: 3048-0053.

Type of Review: Regular.

Need and Use: The Multi-Buyer Select Risk Policy (MBSR) Exclusions Worksheet will be used by external customers, current policyholders and portfolio managers to determine eligibility of Export-Import Bank support under the MBSR Policy. Program changes that were made in 2017 have resulted in revitalized demand of the MBSR product in the marketplace. This form will be available on EXIM's website and will standardize the collection of required information into a user-friendly format that can be submitted electronically via email or as an attachment to an EXIM Online application.

Affected Public: This form affects entities involved in the export of U.S. goods and services.

Annual Number of Respondents: 60.

Estimated Time per Respondent: 15 minutes.

Annual Burden Hours: 15 hours.

Frequency of Reporting or Use: As needed.

Dated: December 4, 2024.
Andrew Smith,
Records Officer.

[FR Doc. 2024-28902 Filed 12-9-24; 8:45 am]

BILLING CODE 6690-01-P